SMALL BUSINESS ADMINISTRATION

[Declaration of Disaster #3341]

State of Minnesota

As a result of the President's major disaster declaration on May 16, 2001, I find that Benton, Chippewa, Freeborn, Goodhue, Houston, St. Louis, Stevens, Wabasha, Washington, Winona and Yellow Medicine Counties, and the Tribal Governments of Prairie Island and Upper Sioux in the State of Minnesota constitute a disaster area due to damages caused by severe winter storms, flooding and tornadoes occurring between March 23, 2001 and continuing. Applications for loans for physical damage as a result of this disaster may be filed until the close of business on July 15, 2001 and for economic injury until the close of business on February 15, 2002 at the address listed below or other locally announced locations: U.S. Small Business Administration, Disaster Area 2 Office, One Baltimore Place, Suite 300, Atlanta, GA 30308.

In addition, applications for economic injury loans from small businesses located in the following contiguous counties in Minnesota may be filed until the specified date at the above location: Aitkin, Anoka, Big Stone, Carlton, Chisago, Dakota, Dodge, Douglas, Faribault, Fillmore, Grant, Itasca, Kandiyohi, Koochiching, Lac qui Parle, Lake, Lincoln, Lyon, Mille Lacs, Morrison, Mower, Olmsted, Pope, Ramsey, Rice, Redwood, Renville, Sherburne, Stearns, Steele, Swift, Traverse and Waseca; and Winnebago and Worth Counties in the State of Iowa; and Deuel County in the State of South Dakota.

The interest rates are:

| Percent
For Physical Damage:
Homeowners with credit available elsewhere | 7.000
Homeowners without credit available elsewhere | 3.500
Businesses with credit available elsewhere | 8.000
Businesses and non-profit organizations without credit available elsewhere | 4.000
Others (including non-profit organizations) with credit available elsewhere | 7.000
For Economic Injury:
Businesses and small agricultural cooperatives without credit available elsewhere | 4.000

The number assigned to this disaster for physical damage is 334106. For economic injury the number assigned is 9L7200 for Minnesota, 9L7300 for Iowa, and 9L7400 for South Dakota.

Wisconsin counties and Iowa counties contiguous to the above named primary counties are not listed here because they have been previously declared.

(Catalog of Federal Domestic Assistance Program Nos. 59002 and 59008)
Dated: May 17, 2001.
Herbert L. Mitchell,
Associate Administrator for Disaster Assistance.

[FR Doc. 01-13191 Filed 5-24-01; 8:45 am]

BILLING CODE 8025-01-P